DEPARTMENT OF THE INTERIOR

National Park Service

[NPS-WASO-NAGPRA-NPS0029370; PPWOCRADN0-PCU00RP14.R50000]

Notice of Inventory Completion: U.S. Department of Agriculture, Forest Service, San Juan National Forest, Durango, CO

AGENCY: National Park Service, Interior.

ACTION: Notice.

SUMMARY: The U.S. Department of Agriculture, Forest Service, San Juan National Forest has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the San Juan National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the San Juan National Forest at the address in this notice by February 27, 2020.

ADDRESSES: Mark Lambert, Staff Officer, San Juan National Forest, 15 Burnett Court, Durango, CO 81301, telephone (970) 385-1240, email mark.b.lambert@usda.gov.

SUPPLEMENTARY INFORMATION: Notice is here given in accordance with the Native American Graves Protection and Repatriation Act (NAGPRA), 25 U.S.C. 3003, of the completion of an inventory of human remains under the control of the U.S. Department of Agriculture, Forest Service, San Juan National Forest, Durango, CO. The human remains and associated funerary objects were removed from the Falls Creek Rock Shelters (5LP1434), on lands managed by the Forest Service in the Animas Valley, North of Durango, La Plata County, CO.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the San Juan National Forest, La Plata County Historical Society, and Fort Lewis College professional staff in consultation with representatives of the Hopi Tribe of Arizona; Jicarilla Apache Nation, New Mexico; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana., New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Ute Tribe (previously listed as the Ute Mountain Tribe of the Ute Mountain Reservation, Colorado, New Mexico & Utah); and the Zuni Tribe of the Zuni Reservation, New Mexico (hereafter referred to as “The Consulted Tribes”).

History and Description of the Remains

In 1936, human remains representing, at minimum, three individuals were removed from the Falls Creek Rock Shelters (5LP1434) in La Plata County, CO. The human remains were collected by the National Youth Administration, under the direction of Helen Daniels, at the South Shelter of the Falls Creek Rock Shelters in June 1936. The human remains remained in Daniels' possession until they were donated to the La Plata County Historical Society in 1989. The La Plata County Historical Society completed a NAGPRA inventory in 2018, and identified three individuals from the Falls Creek Rock Shelters. In 2018, physical transfer of the human remains to the San Juan National Forest took place. Individual 1 is an infant of about 2 months of age (range 1-3 months). Individual 2 is an adult (18+ years), sex indeterminate. Individual 3 is an infant aged 5-7 months. No known individuals were identified. No associated funerary objects are present.

The Falls Creek Rock Shelters have been identified as a Basketmaker II habitation site, with the main occupation occurring between 300 B.C. and A.D. 400, based upon tree-ring dates. The preponderance of evidence derived from the archeological, biological, oral traditions, and geographic lines of evidence indicate that the Basketmaker II populations of the Durango/Upper Animas District, in Southwest Colorado are culturally affiliated with the modern Puebloan people (Coleman 2013, 12), represented by the Hopi Tribe of Arizona; Kewa Pueblo, New Mexico (formerly Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana., New Mexico; Pueblo of Santa Clara, New Mexico; Pueblo of Taos, New Mexico; Pueblo of Tesuque, New Mexico; Pueblo of Zia, New Mexico; Ysleta del Sur Pueblo (previously listed as the Ysleta Del Sur Pueblo of Texas); and the Zuni Tribe of the Zuni Reservation, New Mexico (hereafter referred to as “The Affiliated Tribes”).

This cultural determination is based upon an extensive review of published and unpublished information, including information provided by Indian Tribes during consultations conducted between 1995 and 2015 and archeological evidence consisting of chronological data, artifacts, and rock art. In addition, recent DNA research, as well as Hopi and Zuni oral traditions, demonstrate an affiliation between Basketmaker II populations and modern Puebloans.

Determinations Made by the U.S. Department of Agriculture, Forest Service, San Juan National Forest

Officials of the U.S. Department of Agriculture, Forest Service, San Juan National Forest have determined that:

• Pursuant to 25 U.S.C. 3001(9), the human remains described in this notice represent the physical remains of three individuals of Native American ancestry.

• Pursuant to 25 U.S.C. 3001(2), there is a relationship of shared group identity that can be reasonably traced between the Native American human remains and The Affiliated Tribes.

Additional Requestors and Disposition

Lineal descendants or representatives of any Indian Tribe or Native Hawaiian organization not identified in this notice that wish to request transfer of control of these human remains should submit a written request with information in support of the request to Mark Lambert, Staff Officer, San Juan National Forest, 15 Burnett Court, Durango, CO 81301, telephone (970) 385-1240, email mark.b.lambert@usda.gov, by February 27, 2020. After that date, if no additional requestors have come forward, transfer of control of the human remains to The Affiliated Tribes may proceed.

The U.S. Department of Agriculture, Forest Service, San Juan National Forest, is responsible for notifying The Consulted Tribes and The Affiliated Tribes that this notice has been published.

Dated: November 22, 2019.
Melanie O'Brien,
Manager, National NAGPRA Program.

[FR Doc. 2020-01353 Filed 1-27-20; 8:45 am]

BILLING CODE 4312-52-P